DEPARTMENT OF HEALTH AND HUMAN SERVICES

Administration for Children and Families

Proposed Information Collection Activity; Comment Request Proposed Projects

Title: Third Grade Follow-up to the Head Start Impact Study.

OMB No.: 0970-0229.

Description: The Administration for Children and Families (ACF) within the Department of Health and Human Services (HHS) is requesting comments on plans to implement a third grade follow-up to the Head Start Impact Study. This study will collect information for determining, on a national basis, how Head Start affects outcomes in the third grade for children who participated in the program as compared to children not enrolled in Head Start and to determine under which conditions Head Start works best and for which children.

The Head Start Impact Study was a longitudinal study that involved approximately 5,000 first-time-enrolled three- and four-year-old pre school children across 84 nationally representative grantee/delegate agencies (in communities where there were more eligible children and families than can be served by the program). The participating children were randomly assigned to either a Head Start group (that could enroll in Head Start services) or a control group (that could not enroll in Head Start services but could enroll in other available services selected by their parents). Data collection for the study began in the fall of 2002 and extended through spring 2006.

It is the intention of the Administration for Children and Families to examine outcomes for this sample of children and families during the spring of the children's third grade year. Data will be collected in the spring of 2007 (for the four-year-old cohort) and the spring of 2008 (for the three-year-old cohort). The domains for development to be assessed include demographic characteristics of the children and families, as well as children's cognitive development, school achievement and adjustment, socio-emotional functioning, health and access to health care, and relationships with peers. Information will also be collected on parents' involvement in educational activities, mental health and well-being, and monitoring and other parenting practices, and information related to the characteristics and quality of the schools and classrooms that children attend.

Respondents: Individuals or households and school districts.

Annual Burden Estimates
Respondents and activities | Number of respondents | Number of responses per respondent | Average burden hours per response | Total burden hours
Child Interview and Assessment | 4,600 | 1 | 1 | 4,600
Parent Interview | 4,600 | 1 | 1 | 4,600
Teacher Survey | 4,600 | 1 | .33 | 1,533
School Administrator Survey | 2,300 | 1 | .25 | 575
Total Annual Burden Estimates |  |  |  | 11,308

In compliance with the requirements of Section 3506(c)(2)(A) of the Paperwork Reduction Act of 1995, the Administration for Children and Families is soliciting public comment on the specific aspects of the information collection described above. Copies of this proposed collection of information can be obtained and comments may be forwarded by writing to the Administration for Children and Families, Office of Information Services, 370 L'Enfant Promenade, SW., Washington, DC 20447, Attn: ACF Reports Clearance Officer. All requests should be identified by the title of the information collection. E-mail: infocollection@acf.hhs.gov.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publications.

Dated: August 9, 2006.
Robert Sargis,
Reports Clearance Officer.

[FR Doc. 06-6924 Filed 8-14-06; 8:45 am]

BILLING CODE 4184-01-M